NUCLEAR REGULATORY COMMISSION

[NRC-2018-0177]

Use of Listserv for Decommissioning and Uranium Recovery Site Correspondence

AGENCY: Nuclear Regulatory Commission.

ACTION: Implementation of electronic distribution of decommissioning and uranium recovery site correspondence.

SUMMARY: The U.S. Nuclear Regulatory Commission (NRC) is issuing this document to inform the public that, as of October 1, 2018, publicly available decommissioning and uranium recovery site correspondence originating from the Division of Decommissioning, Uranium Recovery, and Waste Programs (DUWP) in the Office of Nuclear Material Safety and Safeguards (NMSS) will be transmitted by a computer-based email distribution system Listserv to addressees and subscribers. This change does not affect the availability of official agency records in the NRC's Agencywide Documents Access and Management System (ADAMS).

ADDRESSES: Please refer to Docket ID NRC-2018-0177 when contacting the NRC about the availability of information regarding this document. You may obtain publicly-available information related to this document using any of the following methods:

• Federal Rulemaking website: Go to https://www.regulations.gov and search for Docket ID NRC-2018-0177. Address questions about NRC dockets to Jennifer Borges; telephone: 301-287-9127; email: Jennifer.Borges@nrc.gov.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

FOR FURTHER INFORMATION CONTACT: Kim Conway, Office of Nuclear Material Safety and Safeguards, U.S. Nuclear Regulatory Commission, Washington, DC 20555-0001; telephone: 301-415-1335; email: Kimberly.Conway@nrc.gov.

SUPPLEMENTARY INFORMATION: The electronic distribution process was first utilized by the Office of Nuclear Reactor Regulation in 2008 for operating reactor correspondence. Currently, DUWP uses Listserv to distribute correspondence for reactors in decommissioning that have transitioned to NMSS since 2013. Public feedback regarding this process has been positive. This process distributes correspondence documents to the addressees and members of the Listserv at the same time. Distribution of documents containing safeguards, proprietary or security-related information, or other information that is withheld from public disclosure will not be affected by this initiative.

This initiative will be implemented on October 1, 2018. Individuals may subscribe to receive licensing correspondence for decommissioning and uranium recovery through the following steps: (1) Go to the NRC's public website and select “Public Meetings & Involvement,” (2) select “Subscribe to email Updates,” (3) select “Lyris Subscription Services” and click on “Decommissioning and Uranium Recovery Correspondence”, (4) enter the email address through which you want to receive the NRC Listserv emails, (5) check the box to select at least one site, and (6) click on “Subscribe.” The NRC will continue to send duplicate hard copies of correspondence through November 1, 2018 to allow individuals adequate time to subscribe.

After you are subscribed to an NRC Listserv, you will receive an email from the NRC with instructions for managing your NRC Listserv subscription, including how to change your email address and how to unsubscribe.

Dated at Rockville, Maryland, this 25th day of September 2018.
For the Nuclear Regulatory Commission.
John R. Tappert,
Director, Division of Decommissioning, Uranium Recovery, and Waste Programs, Office of Nuclear Material Safety and Safeguards.

[FR Doc. 2018-21299 Filed 9-28-18; 8:45 am]

BILLING CODE 7590-01-P